FEDERAL COMMUNICATIONS COMMISSION

47 CFR Part 64

[CG Docket No. 02-278; Report No. 3066]

Petition for Reconsideration of Action in Rulemaking Proceeding

AGENCY: Federal Communications Commission.

ACTION: Petition for reconsideration.

SUMMARY: A Petition for Reconsideration (Petition) has been filed in the Commission's rulemaking proceeding, Sarah E. Ducich and Mark W. Brennan on behalf of Navient Corp., Joseph Popevis and Rich Benenson on behalf of Nelnet Servicing LLC, Rebecca Emily Rapp on behalf of Great Lakes Higher Education Corporation, Jason L. Swartley on behalf of Pennsylvania Higher Education Assistance Agency, and Winfield P. Crigler on behalf of Student Loan Servicing Alliance.

DATES: Oppositions to the Petition must be filed on or before February 1, 2017. Replies to an opposition must be filed on or before February 13, 2017.

ADDRESSES: Federal Communications Commission, 445 12th Street SW., Washington, DC 20554.

FOR FURTHER INFORMATION CONTACT: Kristi Thornton, Consumer Policy Division, Consumer and Governmental Affairs Bureau, at (202) 418-2467 or email: Kristi.Thornton@fcc.gov.

SUPPLEMENTARY INFORMATION: This is a summary of the Commission's document, Report No. 3066, released January 6, 2017. The full text of the Petition is available for viewing and copying at the FCC Reference Information Center, 445 12th Street SW., Room CY-A257, Washington, DC 20554. It also may be accessed online via the Commission's Electronic Comment Filing System at: https://www.fcc.gov/ecfs/filing/1217190700960/document/1217190700960fd71. The Commission will not send a copy of this document pursuant to the Congressional Review Act, 5 U.S.C. 801(a)(1)(A), because this document does not have an impact on any rules of particular applicability.

Subject: In the Matter of Rules and Regulations Implementing the Telephone Consumer Protection Act of 1991, FCC 16-99, published at 81 FR 80594, November 16, 2016, in CG Docket No. 02-278. This document is being published pursuant to 47 CFR 1.429(e). See also 47 CFR 1.4(b)(1) and 1.429(f), (g).

Number of Petitions Filed: 1.

Federal Communications Commission.
Marlene H. Dortch,
Secretary.

[FR Doc. 2017-00848 Filed 1-13-17; 8:45 am]

BILLING CODE 6712-01-P